DEPARTMENT OF THE INTERIOR

Bureau of Land Management

[NV020-1430-EQ; N-31078]

Terminating the Segregative Effect on Land That Was Previously Leased for Airport Purposes and Opens the Land to Operation Under the Public Land Laws and the Mining Laws

AGENCY: Bureau of Land Management, Interior.

ACTION: Notice.

SUMMARY: This notice terminates the segregative effect on land that was previously leased for airport purposes and opens the land to operation under the public land laws and the mining laws.

EFFECTIVE DATE: At 9 a.m. on September 3, 2004.

FOR FURTHER INFORMATION CONTACT: M. Lynn Trost, Realty Specialist, Bureau of Land Management, Winnemucca Field Office, 5100 East Winnemucca Boulevard, Winnemucca, Nevada 89445, (775) 623-1500.

SUPPLEMENTARY INFORMATION: Airport Lease N-31078 was applied for by Pinson Mining Company on October 15, 1980, under the act of May 24, 1928 (49 U.S.C. 211-214). On that date, the land was segregated from all other forms of appropriation under the public land laws. Notice to this effect was published in the Federal Register on November 17, 1980. The Public Airport Lease was granted to Pinson Mining Company on April 1, 1981, under the terms and conditions of the Act of May 24, 1928, as amended, (49 U.S.C. 211-214) and the regulations there under 43 CFR 2911. Notice is hereby given that Airport Lease N-31078, involving the following described lands, has been terminated: T. 38 N., R. 42 E., Sec. 34: N½N½ (within); Sec. 35: N½N½NW¼ (within); Mt. Diablo Meridian, Nevada. The lease area described contains 12.63 acres in Humboldt County, Nevada.

At 9 a.m. on September 3, 2004, the land described in this notice, will be opened to the operation of the public land laws generally, subject to valid existing rights, the provisions of existing withdrawals, other segregations of record, and the requirements of applicable law. All valid applications received at or prior to 9 a.m. on September 3, 2004, shall be considered as simultaneously filed at that time. Those received thereafter shall be considered in the order of filing.

At 9 a.m. on September 3, 2004, the land described in this notice, will be opened to location and entry under the United States mining laws, the operation of the mineral leasing laws, and the mineral material laws subject to valid existing rights, the provisions of existing withdrawals, other segregations of record, and the requirements of applicable law. Appropriation of any of the land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: May 28, 2004.
Terry A. Reed,
Field Manager, Winnemucca.

[FR Doc. 04-17737 Filed 8-3-04; 8:45 am]

BILLING CODE 4310-HC-P